DEPARTMENT OF COMMERCE

National Oceanic and Atmospheric Administration

50 CFR Part 622

[Docket No. 090508900-91414-02]

RIN 0648-AX75

Fisheries of the Caribbean, Gulf of Mexico, and South Atlantic; Snapper-Grouper Fishery of the South Atlantic; Red Snapper Closure

AGENCY: National Marine Fisheries Service (NMFS), National Oceanic and Atmospheric Administration (NOAA), Commerce.

ACTION: Temporary rule; interim measures extended.

SUMMARY: NMFS issues this temporary rule to extend the effective date of interim measures to reduce overfishing of red snapper in the South Atlantic implemented by a temporary rule published by NMFS on December 4, 2009 (74 FR 63673). This temporary rule extends the closure of the commercial and recreational fisheries for red snapper in the exclusive economic zone (EEZ) of the South Atlantic as requested by the South Atlantic Fishery Management Council (Council). The intended effect of this rule is to reduce overfishing of red snapper in the South Atlantic.

DATES: The effective date for the interim rule published at 74 FR 63673, December 4, 2009, is extended from June 3, 2010, through December 5, 2010, unless NMFS publishes a superseding document in the Federal Register.

ADDRESSES: Copies of the final regulatory flexibility analysis (FRFA) and environmental assessment (EA) may be obtained from Karla Gore, Southeast Regional Office, NMFS, 263 13th Avenue South, St. Petersburg, FL 33701.

FOR FURTHER INFORMATION CONTACT: Karla Gore, telephone: 727-551-5305.

SUPPLEMENTARY INFORMATION: The snapper-grouper fishery off the southern Atlantic states is managed under the Fishery Management Plan for the Snapper-Grouper Fishery of the South Atlantic Region (FMP). The FMP was prepared by the Council and is implemented under the authority of the Magnuson-Stevens Fishery Conservation and Management Act (Magnuson-Stevens Act) by regulations at 50 CFR part 622.

On December 4, 2009, NMFS published the final temporary rule (74 FR 63673) to implement measures to establish a closure of the commercial and recreational fisheries for red snapper in the South Atlantic. The purpose of the interim measures and this extension of the rule is to reduce the overfishing of red snapper while long-term management measures are developed and implemented through Amendment 17A to the FMP. Amendment 17A, currently under development by the Council, will include management measures to end overfishing and rebuild the red snapper stock. Section 305(c)(2) of the Magnuson-Stevens Act provides the Council the authority to request interim measures, if necessary, to reduce overfishing. On March 23, 2009, the Council submitted a letter to NMFS requesting interim measures to prohibit the harvest and possession of red snapper in the South Atlantic. Section 305(c)(3)(B) of the Magnuson-Stevens Act allows for interim measures to be extended for one additional period of 186 days provided that the public has had an opportunity to comment on the interim measures and that the Council is actively preparing a plan amendment to address the overfishing on a permanent basis. A proposed temporary rule, published on July 6, 2009 (74 FR 31906), requested public comments on these same interim measures. NMFS responded to these comments in the final temporary rule published on December 4, 2009 (74 FR 63673), and they are not repeated here.

This rule extends, for an additional 186 days, a closure of the commercial and recreational fisheries for red snapper in the South Atlantic EEZ. During this closure, the harvest, possession, or sale of red snapper in or from the South Atlantic EEZ is prohibited for both commercial and recreational fishermen. For a person issued a valid commercial vessel permit or charter vessel/headboat permit for South Atlantic snapper-grouper, the provisions of this rule apply regardless of where the red snapper are harvested (i.e., state or Federal waters).

Classification

The Administrator, Southeast Region, NMFS, (RA) has determined that the interim measures this temporary rule extends are necessary for the conservation and management of the South Atlantic red snapper stock, until more permanent measures are implemented, and is consistent with the Magnuson-Stevens Act and other applicable laws. The Council is preparing Amendment 17A to establish long-term measures to end the overfishing of red snapper and rebuild the stock.

This temporary rule has been determined to be not significant for purposes of E.O. 12866.

This interim rule is exempt from the procedures of the Regulatory Flexibility Act because the rule is issued without opportunity for prior notice and comment.

An EA was prepared for the interim measures contained in the December 4, 2009, interim rule (74 FR 63673). Because the conditions that existed at the time the December 4, 2009, interim rule was implemented have not changed, the impacts of continuing the interim measures through this extension have already been considered. Copies of the EA are available from NMFS (see ADDRESSES).

The Assistant Administrator for Fisheries, NOAA (AA) finds good cause under 5 U.S.C. 553 (b)(B) to waive prior notice and opportunity for public comment on this interim rule extension. This rule would continue interim measures implemented by the December 4, 2009, interim rule, for not more than an additional 186 days beyond the current expiration date of June 2, 2010. The conditions prompting the initial interim rule still remain, and more permanent measures to be completed through Amendment 17A have not yet been finalized. Failure to extend these interim measures, while the Council continues to develop more permanent measures in Amendment 17A, would result in additional overfishing of the red snapper stock, in violation of national standard 1 of the Magnuson-Stevens Act.

For the aforementioned reasons, the AA also finds good cause under 5 U.S.C. 553 (d)(3) to waive the 30-day delay in effectiveness of this rule.

Dated: May 12, 2010
Eric C. Schwaab,
Assistant Administrator for Fisheries, National Marine Fisheries Service.

[FR Doc. 2010-11854 Filed 5-17-10; 8:45 am]

BILLING CODE 3510-22-S